NUCLEAR REGULATORY COMMISSION

[Docket Nos. 50-387 and 50-388]

PPL Susquehanna, LLC; Allegheny Electric Cooperative, Inc.; Susquehanna Steam Electric Station, Unit Nos. 1 and 2; Notice of Issuance of Amendment to Facility Operating Licenses

The U.S. Nuclear Regulatory Commission (Commission) has issued Amendment Nos. 194 and 169 to Facility Operating License Nos. NPF-14 and NPF-22, issued to PPL Susquehanna, LLC (PPL or the licensee), which revised the Facility Operating Licenses and Technical Specifications for operation of the Susquehanna Steam Electric Station (SSES), Unit Nos. 1 and 2, located in Luzerne County, Pennsylvania. The amendments are effective as of the date of issuance.

The amendments modified the Facility Operating Licenses and Technical Specifications for SSES, Units 1 and 2, to increase the licensed power level for each unit from 3441 megawatts thermal (MWt) to 3489 MWt, which is an increase of 1.4 percent of the rated core thermal power for SSES, Units 1 and 2.

The application for the amendments complies with the standards and requirements of the Atomic Energy Act of 1954, as amended (the Act), and the Commission's rules and regulations. The Commission has made appropriate findings as required by the Act and the Commission's rules and regulations in 10 CFR chapter I, which are set forth in the license amendment.

Notice of Consideration of Issuance of Amendments to Facility Operating Licenses and Opportunity for a Hearing in connection with this action was published in the Federal Register on April 24, 2001 (66 FR 20691). No request for a hearing or petition for leave to intervene was filed following this notice.

The Commission has prepared an Environmental Assessment related to the action and has determined not to prepare an environmental impact statement. Based upon the environmental assessment, the Commission has concluded that the issuance of the amendments will not have a significant effect on the quality of the human environment (66 FR 33716).

For further details with respect to the action see (1) the application for amendments dated October 30, 2000, and supplemented February 5, May 22, May 31, and June 26, 2001, (2) Amendment No. 194 to License No. NPF-14, and Amendment No. 169 to License No. NPF-22, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. If you do not have access to ADAMS or if there are problems in accessing the documents located in ADAMS, contact the NRC Public Document Room Reference staff at 1-800-397-4209, 301-415-4737 or by email to pdr@nrc.gov.

Dated at Rockville, Maryland, this 6th day of July 2001.
For The Nuclear Regulatory Commission.
Robert G. Schaaf,
Project Manager, Section 1, Project Directorate I, Division of Licensing Project Management, Office of Nuclear Reactor Regulation.

[FR Doc. 01-19416 Filed 8-2-01; 8:45 am]

BILLING CODE 7590-01-P